DEPARTMENT OF COMMERCE

National Oceanic and Atmospheric Administration

50 CFR Part 300

[Docket No. 030124019-3040-02; I.D. 010703B]

RIN 0648-AQ67

Pacific Halibut Fisheries; Catch Sharing Plan

AGENCY: National Marine Fisheries Service (NMFS), National Oceanic and Atmospheric Administration (NOAA), Commerce.

ACTION: Final rule; annual management measures for Pacific halibut fisheries and approval of catch sharing plan, and final rule; changes to the Catch Sharing Plan and to sport fishing management.

SUMMARY: The Assistant Administrator for Fisheries, NOAA (AA), on behalf of the International Pacific Halibut Commission (IPHC), publishes annual management measures promulgated as regulations by the IPHC and approved by the Secretary of State governing the Pacific halibut fishery. The AA also announces modifications to the Catch Sharing Plan (CSP) for Area 2A and implementing regulations for 2003. These actions are intended to enhance the conservation of Pacific halibut and further the goals and objectives of the Pacific Fishery Management Council (PFMC) and the North Pacific Fishery Management Council (NPFMC).

DATES: The amendment to § 300.63(a)(3)(ii) is effective March 1, 2003. The final rule for the annual management measures for Pacific halibut fisheries and approval of catch sharing plan is effective March 1, 2003.

ADDRESSES: Copies of the CSP and the environmental assessment/regulatory impact review (EA/RIR) are available at NMFS Northwest Region, 7600 Sand Point Way NE., Seattle, WA 98115-0070 The CSP is also available on the Northwest Region home page at http://www.nwr.noaa.gov.

FOR FURTHER INFORMATION CONTACT: Jay Ginter, 907-586-7228 or Jamie Goen, 206-526-6140.

SUPPLEMENTARY INFORMATION:

Electronic Access

This final rule also is accessible via the Internet at the Office of the Federal Register's Web site at http://www.access.gpo.gov/su--docs/aces/aces140.htm.

Background

The IPHC has promulgated regulations governing the Pacific halibut fishery in 2003 under the Convention between the United States and Canada for the Preservation of the Halibut Fishery of the North Pacific Ocean and Bering Sea (Convention), signed at Ottawa, Ontario, on March 2, 1953, as amended by a Protocol Amending the Convention (signed at Washington, DC, on March 29, 1979). The IPHC regulations have been approved by the Secretary of State of the United States under section 4 of the Northern Pacific Halibut Act (Halibut Act, 16 U.S.C. 773-773k). Pursuant to regulations at 50 CFR 300.62, the approved IPHC regulations setting forth the 2003 IPHC annual management measures are published in the Federal Register to provide notice of their effectiveness, and to inform persons subject to the regulations of the restrictions and requirements. These management measures are effective until superceded by the 2004 management measures that NMFS will publish in the Federal Register.

The IPHC held its annual meeting in Victoria, British Columbia, on January 21-24, 2003, and adopted regulations for 2003. The substantive changes to the previous IPHC regulations (67 FR 12885, March 20, 2002) include:

1. New commercial fishery opening date of March 1;

2. New commercial fishery closing date of November 15;

3. Exemption from clearance requirements in Area 4 for those vessel operators using a NMFS-approved vessel monitoring system and complying with the requirements of 50 CFR 679.28(f)(3), (f)(4), and (f)(5); receiving a confirmation number from NOAA Enforcement prior to fishing; and transmitting until all halibut caught are landed;

4. Opening dates for the Area 2A commercial directed halibut fishery;

5. Revising the term “vessel” to “harvesting vessel” for purposes of allowing fillets from legally landed and retained fish to be possessed only aboard a vessel, in port, up to 1800 hours local time on the calendar day following the offload;

6. Using the term “landed” halibut rather than “delivered” halibut for purposes of meeting the requirement of retaining records by vessel operators;

7. Updating coordinates for the Cape Spencer light used for the Area 2C-3A boundary (58°11′54″ N, 136°38′24″ W) to agree with the U.S. Coast Guard light list;

8. Allowing Area 4D Community Development Quota (CDQ) harvest to be taken in Area 4E;

9. Adoption of the revised Area 2A CSP;

10. New depth-based closed areas for the Area 2A commercial directed halibut fishery, and;

11. Season dates for the Area 2A tribal fishery.

The IPHC recommended to the governments of Canada and the United States catch limits for 2003 totaling 74,920,000 lb, identical to the regulatory area catch limits in 2002. The IPHC staff reported on the assessment of the Pacific halibut stock in 2002. Some significant changes occurred in the assessment as a result of changes in the underlying data being analyzed and the persistence of smaller sizes at the same age in the central part of the halibut range. These changes created some uncertainty about differences in the biomass of the stock estimated from the current and the previous assessment. Analyses were conducted for the 2002 assessment to ensure that the stock is not in any danger of being overharvested. However, the staff needs to resolve these technical issues of the assessment over the next year. In addition, IPHC staff is investigating a new harvest policy that may result in greater stability in the yield from the fishery and insulate the process of setting catch limits from technological changes in the assessment. This harvest policy will also need to be reviewed by the IPHC. The resolution of the technical issues of the assessment may indicate a larger estimate of biomass in the central region of the stock distribution, but application of the proposed harvest policy might dictate slightly lower yields. Because these two processes may be somewhat counterbalancing, the staff wishes to complete its investigations before recommending any changes to present catch limits or the harvest policy. While the trajectory of the halibut stock biomass is downward, the biomass is still above the long-term average level and is expected to remain above this level for the next several years.

This action also implements the CSP for regulatory Area 2A. This plan was developed by the PFMC under authority of the Halibut Act. Section 5 of the Halibut Act (16 U.S.C. 773c) provides the Secretary of Commerce (Secretary) with general responsibility to carry out the Convention and to adopt such regulations as may be necessary to implement the purposes and objectives of the Convention and the Halibut Act. The Secretary's authority has been delegated to the AA. Section 5 of the Halibut Act (16 U.S.C. 773c(c)) also authorizes the Regional Fishery Management Council having authority for the geographic area concerned to develop regulations governing the Pacific halibut catch in United States Convention waters that are in addition to, but not in conflict with, regulations of the IPHC. Pursuant to this authority, NMFS requested that the PFMC allocate halibut catches should such allocation be necessary.

Catch Sharing Plan for Area 2A

The PFMC's Area 2A CSP allocates the halibut catch limit for Area 2A among treaty Indian, non-treaty commercial, and non-treaty sport fisheries in and off Washington, Oregon, and California. Under the CSP, 35 percent of the Area 2A total allowable catch (TAC) is allocated to Washington treaty Indian tribes in Subarea 2A-1, and 65 percent is allocated to non-treaty fisheries in Area 2A. Treaty fisheries are divided into commercial fisheries, and ceremonial and subsistence fisheries. The allocation to non-treaty fisheries is divided into three shares, with the Washington sport fishery (north of the Columbia River) receiving 36.6 percent, the Oregon/California sport fishery receiving 31.7 percent, and the commercial fishery receiving 31.7 percent. The non-treaty commercial allocation is further divided between a directed halibut longline fishery (85 percent) and an incidental catch allowance in the salmon troll fishery (15 percent). The directed commercial fishery in Area 2A is confined to southern Washington (south of 46°53′18″ N. lat.), Oregon and California. North of Point Chehalis, WA (46°53′18″ N. lat.), halibut may be retained by longline vessels participating in the limited entry, primary sablefish fishery. Incidental halibut retention in the primary sablefish fishery is only allowable when the overall Area 2A TAC is above 900,000 lb (408.2 mt), which it is in 2003. [NOTE: New for 2003, regulations for the Pacific Coast groundfish fishery require participants in the primary sablefish fishery in which halibut may be retained to follow depth-based management restrictions (i.e., closed areas) as described in a proposed rule published in the Federal Register on January 7, 2003 (68 FR 936). The final rule for the Pacific Coast groundfish fishery, including depth-based management measures, will publish in the Federal Register. The CSP also divides the sport fisheries into seven geographic areas each with separate allocations, seasons, and bag limits.

For 2003, PFMC recommended changes to the CSP to modify the Pacific halibut fisheries in Area 2A in 2003 and beyond pursuant to recommendations from the Washington Department of Fish and Wildlife (WDFW) and the Oregon Department of Fish and Wildlife (ODFW). These changes to the CSP will implement closed areas for the Washington North Coast sport fishery subarea and the nontreaty commercial halibut fishery to protect yelloweye rockfish, allocate subarea halibut quota between the May and June sport seasons in Washington's North Coast subarea, cap the incidental halibut retention allocation for the primary sablefish fishery at 70,000 lb (31.8 kg) when halibut is available to that fishery, move the season ending date for Oregon sport fisheries in the North Central and South Central areas from September 30 to October 31, provide more flexibility for inseason sport fishery management, and revise the names of Oregon sport seasons.

A complete description of the PFMC recommended changes to the CSP, notice of a draft Environmental Assessment and Regulatory Impact Review (EA/RIR), and proposed sport fishery management measures were published in the Federal Register on February 6, 2003 (68 FR 6103) with a request for public comments by February 18, 2003. No public comments were received. Therefore, NMFS has finalized the EA/RIR, made a finding of no significant impact, and approved the changes to the CSP as proposed. Copies of the complete CSP for Area 2A as modified and the final EA/RIR are available from the NMFS Northwest Regional Office (see ADDRESSES).

The ODFW held public workshops (after the IPHC set the Area 2A quota) in early February 2003, to develop recommendations on the opening dates of the sport fisheries. WDFW did not hold public meetings after the IPHC annual meeting in 2003 because the catch limit and season structure are the same as in 2002. The WDFW and ODFW sent letters to NMFS providing the following recommendations on the opening dates and season structure for managing the sport fisheries consistent with the CSP.

WDFW recommended a May 8 to July 18 season for eastern Puget Sound and a May 22 to August 1 season for western Puget Sound, 5 days per week (closed Tuesday and Wednesday). The recommended number of fishing days is based on an analysis of past harvest patterns in this fishery and meets the requirements of the CSP for the overall Puget Sound sport fishery subarea. For the Washington North Coast subarea, WDFW has recommended a season opening May 1 and continuing until the May sub-quota is taken, 5 days per week (closed Sunday and Monday), and a second season opening June 18 and continuing until the remaining quota is projected to be taken, 5 days per week (closed Sunday and Monday). WDFW also recommended changing the North Coast subarea's closed area to a “C-shaped” area, known as the Yelloweye Rockfish Conservation Area, in accordance with (f)(1)(ii) of the CSP (see ADDRESSES). This change in the size and shape of the closed area is intended to protect yelloweye rockfish, an overfished groundfish species that coexists with Pacific halibut. The “C-shaped” area has been determined to be an area with high interception of yelloweye rockfish in recreational fisheries. This area will be closed to recreational groundfish and halibut fishing. For the Washington South Coast subarea, WDFW has recommended a season opening May 1 and continuing until the quota is taken, 5 days per week (closed Friday and Saturday) in the offshore area and 7 days per week in the nearshore area. WDFW recommendations for the Puget Sound, North Coast and South Coast Washington subareas meet the requirements of the CSP.

Both WDFW and ODFW have recommended opening the Columbia River subarea on May 1 and continuing the season until the quota has been reached, 7 days per week. This recommended season meets the requirements of the CSP.

ODFW recommended starting the nearshore fishery in the Oregon Central Coast and South Coast subareas, on May 1 and continuing the season until the sub-quota for that fishery is taken, 7 days per week. For the all-depth fisheries in those subareas, ODFW recommended a 6 day spring season of May 8, 9, 10, 15, 16, and 17, based on an analysis of past harvest rates. ODFW further recommended a 4-day summer all-depth season of August 1, 2, 8, and 9. If the spring season does not take the entire spring sub-quota for these subareas, ODFW recommended these additional potential opening dates: June 19, 20, 21, 26, 27, and 28. If the summer season does not take the entire summer sub-quota for these subareas, ODFW recommended these additional potential opening dates: August 22 and 23, September 5, 6, 19, and 20, October 17 and 18. These recommendations meet the requirements of the CSP for these subareas.

For the southernmost subarea, south of Humbug Mountain, Oregon, ODFW recommended opening this subarea on May 1 and continuing the season until September 30, 7 days per week. This recommended season meets the requirements of the CSP.

NMFS is implementing sport fishing management measures in Area 2A based on recommendations from the states in accordance with the CSP.

Technical Correction to Halibut Regulations

With this rule, NMFS will revise the Federal halibut regulations at 50 CFR 300.63, which authorize vessels with IPHC licenses that are operating in the primary sablefish longline fishery north of Pt. Chehalis to land halibut taken incidentally in that fishery. The technical correction will alter the regulations to more clearly state that no halibut taken in this fishery may be landed south of Pt. Chehalis. This is a minor clarification and has no substantive effect on the environment or the regulated community because it only clarifies where halibut taken incidentally in the primary sablefish longline fishery may be landed.

Annual Halibut Management Measures

The annual management measures that follow for the 2003 Pacific halibut fishery are identical to those recommended by the IPHC and approved by the Secretary of State.

2003 Pacific Halibut Fishery Regulations

Regulations respecting the Convention Between Canada and the United States of America for the Preservation of the Halibut Fishery of the Northern Pacific Ocean and Bering Sea.

1. Short Title

These regulations may be cited as the Pacific Halibut Fishery Regulations.

2. Application

(1) These Regulations apply to persons and vessels fishing for halibut in, or possessing halibut taken from the maritime area as defined in Section 3.

(2) Sections 3 to 6 apply generally to all halibut fishing.

(3) Sections 7 to 21 apply to commercial fishing for halibut.

(4) Section 22 applies to the United States treaty Indian fishery in subarea 2A-1.

(5) Section 23 applies to customary and traditional fishing in Alaska.

(6) Section 24 applies to sport fishing for halibut.

(7) These Regulations do not apply to fishing operations authorized or conducted by the Commission for research purposes.

3. Interpretation

(1) In these Regulations,

(a) Authorized officer means any State, Federal, or Provincial officer authorized to enforce these regulations including, but not limited to, the National Marine Fisheries Service (NMFS), Canada's Department of Fisheries and Oceans (DFO), Alaska Division of Fish and Wildlife Protection (ADFWP), United States Coast Guard (USCG), Washington Department of Fish and Wildlife (WDFW), and the Oregon State Police (OSP);

(b) Authorized clearance personnel means an authorized officer of the United States, a representative of the Commission, or a designated fish processor;

(c) Charter vessel means a vessel used for hire in sport fishing for halibut, but not including a vessel without a hired operator;

(d) Commercial fishing means fishing, other than treaty Indian ceremonial and subsistence fishing as referred to in section 22, and customary and traditional fishing as referred to in section 23 and defined by and regulated pursuant to National Marine Fisheries Service regulations published at 50 CFR Code of Federal Regulations Part 300, the resulting catch of which is sold or bartered; or is intended to be sold or bartered;

(e) Commission means the International Pacific Halibut Commission;

(f) Daily bag limit means the maximum number of halibut a person may take in any calendar day from Convention waters;

(g) Fishing means the taking, harvesting, or catching of fish, or any activity that can reasonably be expected to result in the taking, harvesting, or catching of fish, including specifically the deployment of any amount or component part of setline gear anywhere in the maritime area;

(h) Fishing period limit means the maximum amount of halibut that may be retained and landed by a vessel during one fishing period;

(i) Land or offload with respect to halibut, means the removal of halibut from the catching vessel;

(j) License means a halibut fishing license issued by the Commission pursuant to section 4;

(k) Maritime area, in respect of the fisheries jurisdiction of a Contracting Party, includes without distinction areas within and seaward of the territorial sea and internal waters of that Party;

(l) Operator, with respect to any vessel, means the owner and/or the master or other individual on board and in charge of that vessel;

(m) Overall length of a vessel means the horizontal distance, rounded to the nearest foot, between the foremost part of the stem and the aftermost part of the stern (excluding bowsprits, rudders, outboard motor brackets, and similar fittings or attachments);

(n) Person includes an individual, corporation, firm, or association;

(o) Regulatory area means an area referred to in section 6;

(p) Setline gear means one or more stationary, buoyed, and anchored lines with hooks attached;

(q) Sport fishing means all fishing other than commercial fishing, treaty Indian ceremonial and subsistence fishing as referred to in section 22, and customary and traditional fishing as referred to in section 23 and defined in and regulated pursuant to National Marine Fisheries Service regulations published in 50 Code of Federal Regulations Part 300;

(r) Tender means any vessel that buys or obtains fish directly from a catching vessel and transports it to a port of landing or fish processor;

(s) VMS transmitter means a NMFS-approved vessel monitoring system transmitter that automatically determines a vessel's position and transmits it to a NMFS-approved communications service provider.¹

¹ Call NOAA Enforcement Division, Alaska Region, at 907-586-7225 between the hours of 0800 and 1600 local time for a list of NMFS-approved VMS transmitters and communications service providers.

(2) In these Regulations, all bearings are true and all positions are determined by the most recent charts issued by the United States National Ocean Service or the Canadian Hydrographic Service.

(3) In these Regulations, all weights shall be computed on the basis that the heads of the fish are off and their entrails removed.

4. Licensing Vessels for Area 2A

(1) No person shall fish for halibut from a vessel, nor possess halibut on board a vessel, used either for commercial fishing or as a charter vessel in Area 2A, unless the Commission has issued a license valid for fishing in Area 2A in respect of that vessel.

(2) A license issued for a vessel operating in Area 2A shall be valid only for operating either as a charter vessel or a commercial vessel, but not both.

(3) A vessel with a valid Area 2A commercial license cannot be used to sport fish for Pacific halibut in Area 2A.

(4) A license issued for a vessel operating in the commercial fishery in Area 2A shall be valid for one of the following, but not both.

(a) The directed commercial fishery during the fishing periods specified in paragraph (2) of section 8 and the incidental commercial fishery during the sablefish fishery specified in paragraph (3) of section 8; or

(b) The incidental catch fishery during the salmon troll fishery specified in paragraph (4) of section 8.

(5) A license issued in respect of a vessel referred to in paragraph (1) of this section must be carried on board that vessel at all times and the vessel operator shall permit its inspection by any authorized officer.

(6) The Commission shall issue a license in respect of a vessel, without fee, from its office in Seattle, Washington, upon receipt of a completed, written, and signed “Application for Vessel License for the Halibut Fishery” form.

(7) A vessel operating in the directed commercial fishery or the incidental commercial fishery during the sablefish fishery in Area 2A must have its “Application for Vessel License for the Halibut Fishery” form postmarked no later than 11:59 p.m. on April 30, or on the first weekday in May if April 30 is a Saturday or Sunday.

(8) A vessel operating in the incidental commercial fishery during the salmon troll season in Area 2A must have its “Application for Vessel License for the Halibut Fishery” form postmarked no later than 11:59 p.m. on March 31, or the first weekday in April if March 31 is a Saturday or Sunday.

(9) Application forms may be obtained from any authorized officer or from the Commission.

(10) Information on “Application for Vessel License for the Halibut Fishery” form must be accurate.

(11) The “Application for Vessel License for the Halibut Fishery” form shall be completed and signed by the vessel owner.

(12) Licenses issued under this section shall be valid only during the year in which they are issued.

(13) A new license is required for a vessel that is sold, transferred, renamed, or redocumented.

(14) The license required under this section is in addition to any license, however designated, that is required under the laws of the United States or any of its States.

(15) The United States may suspend, revoke, or modify any license issued under this section under policies and procedures in Title 15, Code of Federal Regulations, Part 904.

5. In-Season Actions

(1) The Commission is authorized to establish or modify regulations during the season after determining that such action:

(a) Will not result in exceeding the catch limit established preseason for each regulatory area;

(b) Is consistent with the Convention between the United States of America and Canada for the Preservation of the Halibut Fishery of the Northern Pacific Ocean and Bering Sea, and applicable domestic law of either Canada or the United States; and

(c) Is consistent, to the maximum extent practicable, with any domestic catch sharing plans or other domestic allocation programs developed by the United States or Canadian governments.

(2) In-season actions may include, but are not limited to, establishment or modification of the following:

(a) Closed areas;

(b) Fishing periods;

(c) Fishing period limits;

(d) Gear restrictions;

(e) Recreational bag limits;

(f) Size limits; or

(g) Vessel clearances.

(3) In-season changes will be effective at the time and date specified by the Commission.

(4) The Commission will announce in-season actions under this section by providing notice to major halibut processors; Federal, State, United States treaty Indian, Provincial fishery officials, and the media.

6. Regulatory Areas

The following areas shall be regulatory areas (see Figure 1) for the purposes of the Convention:

(1) Area 2A includes all waters off the states of California, Oregon, and Washington;

(2) Area 2B includes all waters off British Columbia;

(3) Area 2C includes all waters off Alaska that are east of a line running 340° true from Cape Spencer Light (58°11′54″ N. lat., 136°38′24″ W. long.) and south and east of a line running 205° true from said light;

(4) Area 3A includes all waters between Area 2C and a line extending from the most northerly point on Cape Aklek (57°41′15″ N. lat., 155°35′0″ W. long.) to Cape Ikolik (57°17′17″ N. lat., 154°47′18″ W. long.), then along the Kodiak Island coastline to Cape Trinity (56°44′50″ N. lat., 154°08′44″ W. long.), then 140° true;

(5) Area 3B includes all waters between Area 3A and a line extending 150° true from Cape Lutke (54°29′00″ N. lat., 164°20′00″ W. long.) and south of 54°49′00″ N. lat. in Isanotski Strait;

(6) Area 4A includes all waters in the Gulf of Alaska west of Area 3B and in the Bering Sea west of the closed area defined in section 10 that are east of 172°00′00″ W. long. and south of 56°20′00″ N. lat.;

(7) Area 4B includes all waters in the Bering Sea and the Gulf of Alaska west of Area 4A and south of 56°20′00″ N. lat.;

(8) Area 4C includes all waters in the Bering Sea north of Area 4A and north of the closed area defined in section 10 which are east of 171°00′00″ W. long., south of 58°00′00″ N. lat., and west of 168°00′00″ W. long.;

(9) Area 4D includes all waters in the Bering Sea north of Areas 4A and 4B, north and west of Area 4C, and west of 168°00′00″ W. long.;

(10) Area 4E includes all waters in the Bering Sea north and east of the closed area defined in section 10, east of 168°00′00″ W. long., and south of 65°34′00″ N. lat.

7. Fishing in Regulatory Area 4E and 4D

(1) Section 7 applies only to any person fishing, or vessel that is used to fish for, Area 4E Community Development Quota (CDQ) or Area 4D CDQ halibut provided that the total annual halibut catch of that person or vessel is landed at a port within Area 4E or 4D.

(2) A person may retain halibut taken with setline gear in Area 4E CDQ and 4D CDQ fishery that are smaller than the size limit specified in section 13, provided that no person may sell or barter such halibut.

(3) The manager of a CDQ organization that authorizes persons to harvest halibut in the Area 4E or 4D CDQ fisheries must report to the Commission the total number and weight of undersized halibut taken and retained by such persons pursuant to section 7, paragraph (2). This report, which shall include data and methodology used to collect the data, must be received by the Commission prior to December 1 of the year in which such halibut were harvested.

8. Fishing Periods

(1) The fishing periods for each regulatory area apply where the catch limits specified in section 11 have not been taken.

(2) Each fishing period in the Area 2A directed fishery ² shall begin at 0800 hours and terminate at 1800 hours local time on June 25, July 9, July 23, August 6, August 20, September 3, and September 17 unless the Commission specifies otherwise.

² The directed fishery is restricted to waters that are south of Point Chehalis, Washington (46°53′18″ N. lat.) under regulations promulgated by the National Marine Fisheries Service and published in the Federal Register.

(3) Notwithstanding paragraph (7) of section 11, an incidental catch fishery ³ is authorized during the sablefish seasons in Area 2A in accordance with regulations promulgated by NMFS.

³ The incidental fishery during the directed, fixed gear sablefish season is restricted to waters that are north of Point Chehalis, Washington (46°53′18″ N. lat. under regulations promulgated by the National Marine Fisheries Service and published in the Federal Register.

(4) Notwithstanding paragraph (2), and paragraph (7) of section 11, an incidental catch fishery is authorized during salmon troll seasons in Area 2A in accordance with regulations promulgated by NMFS.

(5) The fishing period in Areas 2B, 2C, 3A, 3B, 4A, 4B, 4C, 4D, and 4E shall begin at 1200 hours local time on March 1 and terminate at 1200 hours local time on November 15, unless the Commission specifies otherwise.

(6) All commercial fishing for halibut in Areas 2A, 2B, 2C, 3A, 3B, 4A, 4B, 4C, 4D, and 4E shall cease at 1200 hours local time on November 15.

9. Closed Periods

(1) No person shall engage in fishing for halibut in any regulatory area other than during the fishing periods set out in section 8 in respect of that area.

(2) No person shall land or otherwise retain halibut caught outside a fishing period applicable to the regulatory area where the halibut was taken.

(3) Subject to paragraphs (7), (8), (9), and (10) of section 19, these Regulations do not prohibit fishing for any species of fish other than halibut during the closed periods.

(4) Notwithstanding paragraph (3), no person shall have halibut in his/her possession while fishing for any other species of fish during the closed periods.

(5) No vessel shall retrieve any halibut fishing gear during a closed period if the vessel has any halibut on board.

(6) A vessel that has no halibut on board may retrieve any halibut fishing gear during the closed period after the operator notifies an authorized officer or representative of the Commission prior to that retrieval.

(7) After retrieval of halibut gear in accordance with paragraph (6), the vessel shall submit to a hold inspection at the discretion of the authorized officer or representative of the Commission.

(8) No person shall retain any halibut caught on gear retrieved referred to in paragraph (6).

(9) No person shall possess halibut aboard a vessel in a regulatory area during a closed period unless that vessel is in continuous transit to or within a port in which that halibut may be lawfully sold.

10. Closed Area

All waters in the Bering Sea north of 55°00′00″ N. lat. in Isanotski Strait that are enclosed by a line from Cape Sarichef Light (54°36′0″ N. lat., 164°55′42″ W. long.) to a point at 56°20′00″ N. lat., 168°30′00″ W. long.; thence to a point at 58°21′25″ N. latitude, 163°00′00″ W. long.; thence to Strogonof Point (56°53′18″ N. lat., 158°50′37″ W. long.); and then along the northern coasts of the Alaska Peninsula and Unimak Island to the point of origin at Cape Sarichef Light are closed to halibut fishing and no person shall fish for halibut therein or have halibut in his/her possession while in those waters except in the course of a continuous transit across those waters. All waters in Isanotski Strait between 55°00′00″ N. lat. and 54°49′00″ N. lat. are closed to halibut fishing.

11. Catch Limits

(1) The total allowable catch of halibut to be taken during the halibut fishing periods specified in section 8 shall be limited to the weight expressed in pounds or metric tons shown in the following table:

Regulatory area | Catch limit: Pounds | Catch limit: Metric tons
2A: Directed commercial, and incidental commercial during salmon troll fishery | 262,000 | 118.8
2A: Incidental commercial during sablefish fishery | 70,000 | 31.7
2B | 11,750,0 | 5,328.8
2C | 8,500,00 | 3,854.9
3A | 22,630,0 | 10,263.0
3B | 17,130,0 | 7,768.7
4A | 4,970,00 | 2,254.0
4B | 4,180,00 | 1,895.7
4C | 2,030,00 | 920.6
4D | 2,030,00 | 920.6
4E | 390,000 | 176.9

(2) Notwithstanding paragraph (1), regulations pertaining to the division of the Area 2A catch limit between the directed commercial fishery and the incidental catch fishery as described in paragraph (4) of section 8 will be promulgated by the National Marine Fisheries Service and published in the Federal Register.

(3) The Commission shall determine and announce to the public the date on which the catch limit for Area 2A will be taken.

(4) Notwithstanding paragraph (1), Area 2B will close only when all Individual Vessel Quotas assigned by Canada's Department of Fisheries and Oceans are taken, or November 15, whichever is earlier.

(5) Notwithstanding paragraph (1), Areas 2C, 3A, 3B, 4A, 4B, 4C, 4D, and 4E will each close only when all Individual Fishing Quotas and all Community Development Quotas issued by the National Marine Fisheries Service have been taken, or November 15, whichever is earlier:

(6) If the Commission determines that the catch limit specified for Area 2A in paragraph (1) would be exceeded in an unrestricted 10-hour fishing period as specified in paragraph (2) of section 8, the catch limit for that area shall be considered to have been taken unless fishing period limits are implemented.

(7) When under paragraphs (2), (3), and (6) the Commission has announced a date on which the catch limit for Area 2A will be taken, no person shall fish for halibut in that area after that date for the rest of the year, unless the Commission has announced the reopening of that area for halibut fishing.

(8) Notwithstanding paragraph (1), the total allowable catch of halibut that may be taken in the Area 4E directed commercial fishery is equal to the combined annual catch limits specified for the Area 4D and Area 4E Community Development Quotas. The annual Area 4D CDQ catch limit will decrease by the equivalent amount of halibut CDQ taken in Area 4E in excess of the annual Area 4E CDQ catch limit.

12. Fishing Period Limits

(1) It shall be unlawful for any vessel to retain more halibut than authorized by that vessel's license in any fishing period for which the Commission has announced a fishing period limit.

(2) The operator of any vessel that fishes for halibut during a fishing period when fishing period limits are in effect must, upon commencing an offload of halibut to a commercial fish processor, completely offload all halibut on board said vessel to that processor and ensure that all halibut is weighed and reported on State fish tickets.

(3) The operator of any vessel that fishes for halibut during a fishing period when fishing period limits are in effect must, upon commencing an offload of halibut other than to a commercial fish processor, completely offload all halibut on board said vessel and ensure that all halibut are weighed and reported on State fish tickets.

(4) The provisions of paragraph (3) are not intended to prevent retail over-the-side sales to individual purchasers so long as all the halibut on board is ultimately offloaded and reported.

(5) When fishing period limits are in effect, a vessel's maximum retainable catch will be determined by the Commission based on:

(a) The vessel's overall length in feet and associated length class;

(b) The average performance of all vessels within that class; and

(c) The remaining catch limit.

(6) Length classes are shown in the following table:

Overall length (in feet) | Vessel class
1-25 | A
26-30 | B
31-35 | C
36-40 | D
41-45 | E
46-50 | F
51-55 | G
56+ | H

(7) Fishing period limits in Area 2A apply only to the directed halibut fishery referred to in paragraph (2) of section 8.

13. Size Limits

(1) No person shall take or possess any halibut that

(a) With the head on, is less than 32 inches (81.3 cm) as measured in a straight line, passing over the pectoral fin from the tip of the lower jaw with the mouth closed, to the extreme end of the middle of the tail, as illustrated in Figure 2; or

(b) With the head removed, is less than 24 inches (61.0 cm) as measured from the base of the pectoral fin at its most anterior point to the extreme end of the middle of the tail, as illustrated in Figure 2.

(2) No person shall possess on board a vessel a halibut filleted or a halibut that has been mutilated, or otherwise disfigured in any manner that prevents the determination of whether the halibut complies with the size limits specified in this section, except that this paragraph shall not prohibit the possession on board a vessel:

(a) Of halibut cheeks cut from halibut caught by persons authorized to process the halibut on board in accordance with NMFS regulations published at Title 50, Code of Federal Regulations, Part 679; and

(b) Of fillets from halibut that have been offloaded in accordance with section 17 may be possessed on board the harvesting vessel in the port of landing up to 1800 hours local time on the calendar day following the offload.⁴

⁴ DFO has more restrictive regulations therefore section 13(2)b does not apply to fish caught in Area 2B or landed in British Columbia.

(3) No person on board a vessel fishing for, or tendering, halibut caught in Area 2A shall possess any halibut that has had its head removed.

14. Careful Release of Halibut

(1) All halibut that are caught and are not retained shall be immediately released outboard of the roller and returned to the sea with a minimum of injury by:

(a) Hook straightening;

(b) Cutting the gangion near the hook; or

(c) Carefully removing the hook by twisting it from the halibut with a gaff.

15. Vessel Clearance in Area 4

(1) The operator of any vessel that fishes for halibut in Areas 4A, 4B, 4C, or 4D must obtain a vessel clearance before fishing in any of these areas, and before the landing of any halibut caught in any of these areas, unless specifically exempted in paragraphs (10), (13), (14), (15), (16), or (17).

(2) An operator obtaining a vessel clearance required by paragraph (1) must obtain the clearance in person from the authorized clearance personnel and sign the IPHC form documenting that a clearance was obtained, except that when the clearance is obtained via VHF radio referred to in paragraphs 5, 8, and 9, the authorized clearance personnel must sign the IPHC form documenting that the clearance was obtained.

(3) The vessel clearance required under paragraph (1) prior to fishing in Area 4A may be obtained only at Nazan Bay on Atka Island, Dutch Harbor or Akutan, Alaska, from an authorized officer of the United States, a representative of the Commission, or a designated fish processor.

(4) The vessel clearance required under paragraph (1) prior to fishing in Area 4B may only be obtained at Nazan Bay on Atka Island or Adak, Alaska, from an authorized officer of the United States, a representative of the Commission, or a designated fish processor.

(5) The vessel clearance required under paragraph (1) prior to fishing in Area 4C or 4D may be obtained only at St. Paul or St. George, Alaska, from an authorized officer of the United States, a representative of the Commission, or a designated fish processor by VHF radio and allowing the person contacted to confirm visually the identity of the vessel.

(6) The vessel operator shall specify the specific regulatory area in which fishing will take place.

(7) Before unloading any halibut caught in Area 4A, a vessel operator may obtain the clearance required under paragraph (1) only in Dutch Harbor or Akutan, Alaska, by contacting an authorized officer of the United States, a representative of the Commission, or a designated fish processor.

(8) Before unloading any halibut caught in Area 4B, a vessel operator may obtain the clearance required under paragraph (1) only in Nazan Bay on Atka Island or Adak, by contacting an authorized officer of the United States, a representative of the Commission, or a designated fish processor by VHF radio or in person.

(9) Before unloading any halibut caught in Area 4C or 4D, a vessel operator may obtain the clearance required under paragraph (1) only in St. Paul, St. George, Dutch Harbor, or Akutan, Alaska, either in person or by contacting an authorized officer of the United States, a representative of the Commission, or a designated fish processor. The clearances obtained in St. Paul or St. George, Alaska, can be obtained by VHF radio and allowing the person contacted to confirm visually the identity of the vessel.

(10) Any vessel operator who complies with the requirements in section 18 for possessing halibut on board a vessel that was caught in more than one regulatory area in Area 4 is exempt from the clearance requirements of paragraph (1) of this section, provided that:

(a) The operator of the vessel obtains a vessel clearance prior to fishing in Area 4 in either Dutch Harbor, Akutan, St. Paul, St. George, Adak, or Nazan Bay on Atka Island by contacting an authorized officer of the United States, a representative of the Commission, or a designated fish processor. The clearance obtained in St. Paul, St. George, Adak, or Nazan Bay on Atka Island can be obtained by VHF radio and allowing the person contacted to confirm visually the identity of the vessel. This clearance will list the Areas in which the vessel will fish; and

(b) Before unloading any halibut from Area 4, the vessel operator obtains a vessel clearance from Dutch Harbor, Akutan, St. Paul, St. George, Adak, or Nazan Bay on Atka Island by contacting an authorized officer of the United States, a representative of the Commission, or a designated fish processor. The clearance obtained in St. Paul or St. George can be obtained by VHF radio and allowing the person contacted to confirm visually the identity of the vessel. The clearance obtained in Adak or Nazan Bay on Atka Island can be obtained by VHF radio.

(11) Vessel clearances shall be obtained between 0600 and 1800 hours, local time.

(12) No halibut shall be on board the vessel at the time of the clearances required prior to fishing in Area 4.

(13) Any vessel that is used to fish for halibut only in Area 4A and lands its total annual halibut catch at a port within Area 4A is exempt from the clearance requirements of paragraph (1).

(14) Any vessel that is used to fish for halibut only in Area 4B and lands its total annual halibut catch at a port within Area 4B is exempt from the clearance requirements of paragraph (1).

(15) Any vessel that is used to fish for halibut only in Area 4C and lands its total annual halibut catch at a port within Area 4C is exempt from the clearance requirements of paragraph (1).

(16) Any vessel that is used to fish for halibut only in Areas 4D or 4E and lands its total annual halibut catch at a port within Areas 4D, 4E, or the closed area defined in section 10, is exempt from the clearance requirements of paragraph (1).

(17) Any vessel that carries a transmitting VMS transmitter while fishing for halibut in Area 4A, 4B, 4C, or 4D and until all halibut caught in any of these areas is landed is exempt from the clearance requirements of paragraph (1) of this section, provided that:

(a) The operator of the vessel complies with NMFS' vessel monitoring system regulations published at 50 CFR sections 679.28(f)(3), (4) and (5); and

(b) The operator of the vessel notifies NOAA Fisheries Office for Law Enforcement at 800-304-4846 (select option 1 to speak to an Enforcement Data Clerk) between the hours of 0600 and 0000 (midnight) local time within 72 hours before fishing for halibut in Area 4A, 4B, 4C, or 4D and receives a VMS confirmation number.

16. Logs

(1) The operator of any U.S. vessel fishing for halibut that has an overall length of 26 feet (7.9 meters) or greater shall maintain an accurate log of halibut fishing operations in the Groundfish/Individual Fishing Quota (IFQ) Daily Fishing Longline and Pot Gear Logbook provided by NMFS, or Alaska hook-and-line logbook provided by Petersburg Vessel Owners Association or Alaska Longline Fisherman's Association, or the Alaska Department of Fish and Game (ADF&G) longline-pot logbook, or the logbook provided by IPHC.

(2) The logbook referred to in paragraph (1) must include the following information:

(a) The name of the vessel and the state vessel number (ADF&G or Washington Department of Fish and Wildlife or Oregon Department of Fish and Wildlife or California Department of Fish and Game vessel number);

(b) The date(s) upon which the fishing gear is set or retrieved;

(c) The latitude and longitude or loran coordinates or a direction and distance from a point of land for each set or day;

(d) The number of skates deployed or retrieved, and number of skates lost; and

(e) The total weight or number of halibut retained for each set or day.

(3) The logbook referred to in paragraph (1) shall be

(a) Maintained on board the vessel;

(b) Updated not later than 24 hours after midnight local time for each day fished and prior to the offloading or sale of halibut taken during that fishing trip;

(c) Retained for a period of two years by the owner or operator of the vessel;

(d) Open to inspection by an authorized officer or any authorized representative of the Commission upon demand; and

(e) Kept on board the vessel when engaged in halibut fishing, during transits to port of landing, and until the offlanding of all halibut is completed.

(4) The log referred to in paragraph (1) does not apply to the incidental halibut fishery during the salmon troll season in Area 2A defined in paragraph (4) of section 8.

(5) The operator of any Canadian vessel fishing for halibut shall maintain an accurate log recorded in the British Columbia Halibut Fishery logbook provided by DFO.

(6) The logbook referred to in paragraph (5) must include the following information:

(a) The name of the vessel and the Department of Fisheries and Ocean's vessel number;

(b) The date(s) upon which the fishing gear is set or retrieved;

(c) The latitude and longitude or loran coordinates or a direction and distance from a point of land for each set or day;

(d) The number of skates deployed or retrieved, and number of skates lost; and

(e) The total weight or number of halibut retained for each set or day.

(7) The logbook referred to in paragraph (5) shall be:

(a) Maintained on board the vessel;

(b) Updated not later than 24 hours after midnight local time for each day fished and prior to the offloading or sale of halibut taken during that fishing trip;

(c) Retained for a period of two years by the owner or operator of the vessel;

(d) Open to inspection by an authorized officer or any authorized representative of the Commission upon demand;

(e) Kept on board the vessel when engaged in halibut fishing, during transits to port of landing, and until the offloading of all halibut is completed;

(f) Mailed to the Department of Fisheries and Oceans (white copy) within seven days of offloading; and

(g) Mailed to the International Pacific Halibut Commission (yellow copy) within seven days of the final offload if not collected by an International Pacific Halibut Commission employee.

(8) The poundage of any halibut that is not sold, but is utilized by the vessel operator, his/her crew members, or any other person for personal use, shall be recorded in the vessel's log within 24-hours of offloading.

(9) No person shall make a false entry in a log referred to in this section.

17. Receipt and Possession of Halibut

(1) No person shall receive halibut from a United States vessel that does not have on board the license required by section 4.

(2) No person shall offload halibut from a vessel unless the gills and entrails have been removed prior to offloading.⁵

⁵ DFO did not adopt this regulation therefore section 17 paragraph 2 does not apply to fish caught in Area 2B.

(3) It shall be the responsibility of a vessel operator who lands halibut to continuously and completely offload at a single offload site all halibut on board the vessel.

(4) A registered buyer (as that term is defined in regulations promulgated by the National Marine Fisheries Service and codified at Title 50, Code of Federal Regulations, Part 679) who receives halibut harvested in Individual Fishing Quota (IFQ) and Community Development Quota (CDQ) fisheries in Areas 2C, 3A, 3B, 4A, 4B, 4C, 4D, and 4E, directly from the vessel operator that harvested such halibut must weigh all the halibut received and record the following information on Federal catch reports: date of offload; name of vessel; vessel number; scale weight obtained at the time of offloading, including the weight (in pounds) of halibut purchased by the registered buyer, the weight (in pounds) of halibut offloaded in excess of the IFQ or CDQ, the weight of halibut (in pounds) retained for personal use or for future sale, and the weight (in pounds) of halibut discarded as unfit for human consumption.

(5) The first recipient, commercial fish processor, or buyer in the United States who purchases or receives halibut directly from the vessel operator that harvested such halibut must weigh and record all halibut received and record the following information on state fish tickets: the date of offload, vessel number, total weight obtained at the time of offload including the weight (in pounds) of halibut purchased, the weight (in pounds) of halibut offloaded in excess of the IFQ, CDQ, or fishing period limits, the weight of halibut (in pounds) retained for personal use or for future sale, and the weight (in pounds) of halibut discarded as unfit for human consumption.

(6) The master or operator of a Canadian vessel that was engaged in halibut fishing must weigh and record all halibut on board said vessel at the time offloading commences and record on Provincial fish tickets or Federal catch reports the date, locality, name of vessel, the name(s) of the person(s) from whom the halibut was purchased; and the scale weight obtained at the time of offloading of all halibut on board the vessel including the pounds purchased; pounds in excess of Individual Vessel Quotas (IVQs); pounds retained for personal use; and pounds discarded as unfit for human consumption.

(7) No person shall make a false entry on a State or Provincial fish ticket or a Federal catch or landing report referred to in paragraphs (4), (5), and (6) of section 17.

(8) A copy of the fish tickets or catch reports referred to in paragraphs (4), (5), and (6) shall be:

(a) Retained by the person making them for a period of three years from the date the fish tickets or catch reports are made; and

(b) Open to inspection by an authorized officer or any authorized representative of the Commission.

(9) No person shall possess any halibut taken or retained in contravention of these Regulations.

(10) When halibut are landed to other than a commercial fish processor the records required by paragraph (5) shall be maintained by the operator of the vessel from which that halibut was caught, in compliance with paragraph (8).

(11) It shall be unlawful to enter a Halibut Commission license number on a State fish ticket for any vessel other than the vessel actually used in catching the halibut reported thereon.

18. Fishing Multiple Regulatory Areas

(1) Except as provided in this section, no person shall possess at the same time on board a vessel halibut caught in more than one regulatory area.

(2) Halibut caught in more than one of the Regulatory Areas 2C, 3A, or 3B may be possessed on board a vessel at the same time providing the operator of the vessel:

(a) Has a NMFS-certified observer on board when required by NMFS regulations ⁶ published at title 50, Code of Federal Regulations, section 679.7(f)(4); and

⁶ Without an observer, a vessel cannot have on board more halibut than the IFQ for the area that is being fished even if some of the catch occurred earlier in a different area.

(b) Can identify the regulatory area in which each halibut on board was caught by separating halibut from different areas in the hold, tagging halibut, or by other means.

(3) Halibut caught in more than one of the Regulatory Areas 4A, 4B, 4C, or 4D may be possessed on board a vessel at the same time providing the operator of the vessel:

(a) Has a NMFS-certified observer on board the vessel when halibut caught in different regulatory areas are on board; and

(b) Can identify the regulatory area in which each halibut on board was caught by separating halibut from different areas in the hold, tagging halibut, or by other means.

(4) Halibut caught in Regulatory Areas 4A, 4B, 4C, and 4D may be possessed on board a vessel when in compliance with paragraph (3) and if halibut from Area 4 are on board the vessel, the vessel can have halibut caught in Regulatory Areas 2C, 3A, and 3B on board if in compliance with paragraph (2).

19. Fishing Gear

(1) No person shall fish for halibut using any gear other than hook and line gear.

(2) No person shall possess halibut taken with any gear other than hook and line gear.

(3) No person shall possess halibut while on board a vessel carrying any trawl nets or fishing pots capable of catching halibut, except that in Areas 2C, 3A, 3B, 4A, 4B, 4C, 4D, or 4E, halibut heads, skin, entrails, bones or fins for use as bait may be possessed on board a vessel carrying pots capable of catching halibut, provided that a receipt documenting purchase or transfer of these halibut parts is on board the vessel.

(4) All setline or skate marker buoys carried on board or used by any United States vessel used for halibut fishing shall be marked with one of the following:

(a) The vessel's name;

(b) The vessel's state license number; or

(c) The vessel's registration number.

(5) The markings specified in paragraph (4) shall be in characters at least four inches in height and one-half inch in width in a contrasting color visible above the water and shall be maintained in legible condition.

(6) All setline or skate marker buoys carried on board or used by a Canadian vessel used for halibut fishing shall be:

(a) Floating and visible on the surface of the water; and

(b) Legibly marked with the identification plate number of the vessel engaged in commercial fishing from which that setline is being operated.

(7) No person on board a vessel from which setline gear was used to fish for any species of fish anywhere in Area 2A during the 72-hour period immediately before the opening of a halibut fishing period shall catch or possess halibut anywhere in those waters during that halibut fishing period.

(8) No vessel from which setline gear was used to fish for any species of fish anywhere in Area 2A during the 72-hour period immediately before the opening of a halibut fishing period may be used to catch or possess halibut anywhere in those waters during that halibut fishing period.

(9) No person on board a vessel from which setline gear was used to fish for any species of fish anywhere in Areas 2B, 2C, 3A, 3B, 4A, 4B, 4C, 4D, or 4E during the 72-hour period immediately before the opening of the halibut fishing season shall catch or possess halibut anywhere in those areas until the vessel has removed all of its setline gear from the water and has either:

(a) Made a landing and completely offloaded its entire catch of other fish; or

(b) Submitted to a hold inspection by an authorized officer.

(10) No vessel from which setline gear was used to fish for any species of fish anywhere in Areas 2B, 2C, 3A, 3B, 4A, 4B, 4C, 4D, or 4E during the 72-hour period immediately before the opening of the halibut fishing season may be used to catch or possess halibut anywhere in those areas until the vessel has removed all of its setline gear from the water and has either:

(a) Made a landing and completely offloaded its entire catch of other fish; or

(b) Submitted to a hold inspection by an authorized officer.

(11) Notwithstanding any other provision in these regulations, a person may retain and possess, but not sell or barter, halibut taken with trawl gear only as authorized by the Prohibited Species Donation regulations of the National Marine Fisheries Service.

20. Retention of Tagged Halibut

(1) Nothing contained in these Regulations prohibits any vessel at any time from retaining and landing a halibut that bears a Commission tag at the time of capture, if the halibut with the tag still attached is reported at the time of landing and made available for examination by a representative of the Commission or by an authorized officer.

(2) After examination and removal of the tag by a representative of the Commission or an authorized officer, the halibut

(a) May be retained for personal use; or

(b) May be sold if it complies with the provisions of section 13.

21. Supervision of Unloading and Weighing

The unloading and weighing of halibut may be subject to the supervision of authorized officers to assure the fulfillment of the provisions of these Regulations.

22. Fishing by United States Treaty Indian Tribes

(1) Halibut fishing in subarea 2A-1 by members of United States treaty Indian tribes located in the State of Washington shall be regulated under regulations promulgated by the National Marine Fisheries Service and published in the Federal Register.

(2) Subarea 2A-1 includes all waters off the coast of Washington that are north of 46°53′18″ N. lat. and east of 125°44′00″ W. long., and all inland marine waters of Washington.

(3) Section 13 (size limits), section 14 (careful release of halibut), section 16 (logs), section 17 (receipt and possession of halibut) and section 19 (fishing gear), except paragraphs 7 and 8 of section 19, apply to commercial fishing for halibut in subarea 2A-1 by the treaty Indian tribes.

(4) Commercial fishing for halibut in subarea 2A-1 is permitted with hook and line gear from March 1 through November 15, or until 456,500 lb (207.0 mt) is taken, whichever occurs first.

(5) Ceremonial and subsistence fishing for halibut in subarea 2A-1 is permitted with hook and line gear from January 1 through December 31, and is estimated to take 27,000 pounds (12.2 metric tons).

23. Customary and Traditional Fishing in Alaska

(1) Customary and traditional fishing for halibut in Regulatory Areas 2C, 3A, 3B, 4A, 4B, 4C, 4D, and 4E shall be governed pursuant to regulations promulgated by the National Marine Fisheries Service and published in 50 CFR part 300.

(2) Customary and traditional fishing is authorized from January 1 through December 31.

(3) Section 23 is in effect only when National Marine Fisheries Service publishes subsistence (customary and traditional use) regulations in 50 CFR part 300.

24. Sport Fishing for Halibut

(1) No person shall engage in sport fishing for halibut using gear other than a single line with no more than two hooks attached; or a spear.

(2) In all waters off Alaska:

(a) The sport fishing season is from February 1 to December 31;

(b) The daily bag limit is two halibut of any size per day per person.

(3) In all waters off British Columbia:

(a) The sport fishing season is from February 1 to December 31;

(b) The daily bag limit is two halibut of any size per day per person.

(4) In all waters off California, Oregon, and Washington:

(a) The total allowable catch of halibut shall be limited to 232,499 lb (105.4 mt) in waters off Washington and 262,001 pounds (118.8 metric tons) in waters off California and Oregon;

(b) The sport fishing subareas, subquotas, fishing dates, and daily bag limits are as follows, except as modified under the inseason actions in Section 25. All sport fishing in Area 2A is managed on a “port of landing” basis, whereby any halibut landed into a port counts toward the quota for the area in which that port is located, and the regulations governing the area of landing apply, regardless of the specific area of catch.

(i) In Puget Sound and the U.S. waters in the Strait of Juan de Fuca, east of a line extending from 48°17′30″ N. lat., 124°23′70″ W. long. north to 48°24′10″ N. lat., 124°23′70″ W. long., there is no quota. This area is managed by setting a season that is projected to result in a catch of 63,278 lb (29 mt).

(A) The fishing season in eastern Puget Sound (east of 123°49′30″ W. long.) is May 8 through July 18 and the fishing season in western Puget Sound (west of 123°49′30″ W. long.) is May 22 through August 1, 5 days a week (Thursday through Monday).

(B) The daily bag limit is one halibut of any size per day per person.

(ii) In the area off the north Washington coast, west of the line described in paragraph (4)(b)(i) of this section and north of the Queets River (47°31′42″ N. lat.), the quota for landings into ports in this area is 113,915 lb (52 mt).

(A) The fishing seasons are:

(1) Commencing May 1 and continuing 5 days a week (Tuesday through Saturday) until 82,019 lb (37 mt) are estimated to have been taken and the season is closed by the Commission.

(2) From June 18, and continuing thereafter for 5 days a week (Tuesday through Saturday) until the overall area quota of 113,915 lb (52 mt) are estimated to have been taken and the area is closed by the Commission, or until September 30, whichever occurs first.

(B) The daily bag limit is one halibut of any size per day per person.

(C) A portion of this area southwest of Cape Flattery is closed to sport fishing for halibut. The “C-shaped” yelloweye rockfish conservation area that is closed to recreational halibut fishing is defined by the following coordinates in the order listed:

48°18′ N. lat.; 125°18′ W. long.;

48°18′ N. lat.; 124°59′ W. long.;

48°11′ N. lat.; 124°59′ W. long.;

48°11′ N. lat.; 125°11′ W. long.;

48°04′ N. lat.; 125°11′ W. long.;

48°04′ N. lat.; 124°59′ W. long.;

48°00′ N. lat.; 124°59′ W. long.;

48°00′ N. lat.; 125°18′ W. long.;

and connecting back to 48°18′ N. lat.; 125°18′ W. long.

(iii) In the area between the Queets River, WA and Leadbetter Point, WA (46°38′10″ N. lat.), the quota for landings into ports in this area is 48,623 lb (22 mt).

(A) The fishing season commences on May 1 and continues 5 days a week (Sunday through Thursday) in all waters, and commences on May 1 and continues 7 days a week in the area from Queets River south to 47°00′00″ N. lat. and east of 124°40′00″ W. long., until 48,623 lb (22 mt) are estimated to have been taken and the season is closed by the Commission, or until September 30, whichever occurs first.

(B) The daily bag limit is one halibut of any size per day per person.

(iv) In the area between Leadbetter Point, WA and Cape Falcon, OR (45°46′00″ N. lat.), the quota for landings into ports in this area is 11,923 lb (5 mt).

(A) The fishing season commences on May 1, and continues every day through September 30, or until 11,923 lb (5 mt) are estimated to have been taken and the area is closed by the Commission, whichever occurs first.

(B) The daily bag limit is the first halibut taken, per person, of 32 inches (81.3 cm) or greater in length.

(v) In the area off Oregon between Cape Falcon and the Siuslaw River at the Florence north jetty (44°01′08″ N. lat.), the quota for landings into ports in this area is 230,639 lb (104.6 mt).

(A) The fishing seasons are:

(1) The first season commences May 1 and continues every day through October 31, in the area inside the 30-fathom (55 m) curve nearest to the coastline as plotted on National Ocean Service charts numbered 18520, 18580, and 18600, or until the combined subquotas of the north central and south central inside 30-fathom fisheries (19,797 lb (9.0 mt)) or any inseason revised subquota is estimated to have been taken and the season is closed by the Commission, whichever is earlier.

(2) The second season is open on May 8, 9, 10, 15, 16, and 17. The projected catch for this season is 156,835 lb (71.1 mt). If sufficient unharvested catch remains for additional fishing days, the season will reopen. Dependent on the amount of unharvested catch available, the potential season reopening dates will be: June 19, 20, 21, 26, 27, and 28. If a decision is made inseason by NMFS to allow fishing on any of these reopening dates, notice of the opening will be announced on the NMFS hotline (206) 526-6667 or (800) 662-9825. No halibut fishing will be allowed on the reopening dates unless the date is announced on the NMFS hotline.

(3) If sufficient unharvested catch remains, the third season will open on August 1, 2, 8, and 9 or until the combined quotas for the all-depth fisheries in the subareas described in paragraphs (v) and (vi) of this section totaling 229,103 lb (103.9 mt) are estimated to have been taken and the area is closed by the Commission, whichever is earlier. An announcement will be made on the NMFS hotline in mid-July as to whether the fishery will be open on August 1, 2, 8, and 9. No halibut fishing will be allowed on these dates unless the dates are announced on the NMFS hotline. If the harvest during this opening does not achieve the 229,103 lb (103.9 mt) quota, the season will reopen. Dependent on the amount of unharvested catch available, the potential season reopening dates will be: August 22 and 23, September 5, 6, 19, and 20, October 17 and 18. If a decision is made inseason to allow fishing on one or more of these reopening dates, notice of the reopening date will be announced on the NMFS hotline (206) 526-6667 or (800) 662-9825. No halibut fishing will be allowed on the reopening dates unless the date is announced on the NMFS hotline.

(B) The daily bag limit is the first halibut taken, per person, of 32 inches (81.3 cm) or greater in length.

(vi) In the area off Oregon between the Siuslaw River at the Florence north jetty and Humbug Mountain, Oregon (42°40′30″ N. lat.), the quota for landings into ports in this area is 18,261 lb (8.3 mt).

(A) The fishing seasons are:

(1) The first season commences May 1 and continues every day through October 31, in the area inside the 30-fathom (55-m) curve nearest to the coastline as plotted on National Ocean Service charts numbered 18520, 18580, and 18600, or until the combined subquotas of the north central and south central inside 30-fathom fisheries (19,797 lb (9.0 mt)) or any inseason revised subquota is estimated to have been taken and the season is closed by the Commission, whichever is earlier.

(2) The second season is open on May 8, 9, 10, 15, 16, and 17. The projected catch for this season is 14,609 lb (6.6 mt). If sufficient unharvested catch remains for additional fishing days, the season will reopen. Dependent on the amount of unharvested catch available, the potential season reopening dates will be: June 19, 20, 21, 26, 27, and 28. If a decision is made inseason by NMFS to allow fishing on any of these reopening dates, notice of the opening will be announced on the NMFS hotline (206) 526-6667 or (800) 662-9825. No halibut fishing will be allowed on the reopening dates unless the date is announced on the NMFS hotline.

(3) If sufficient unharvested catch remains, the third season will open on August 1, 2, 8, and 9 or until the combined quotas for the all-depth fisheries in the subareas described in paragraphs (v) and (vi) of this section totaling 229,103 lb (103.9 mt) are estimated to have been taken and the area is closed by the Commission, whichever is earlier. An announcement will be made on the NMFS hotline in mid-July as to whether the fishery will be open on August 1, 2, 8, and 9. No halibut fishing will be allowed on these dates unless the dates are announced on the NMFS hotline. If the harvest during this opening does not achieve the 229,103 lb (103.9 mt) quota, the season will reopen. Dependent on the amount of unharvested catch available, the potential season reopening dates will be: August 22 and 23, September 5, 6, 19, and 20, October 17 and 18. If a decision is made inseason to allow fishing on one or more of these reopening dates, notice of the reopening date will be announced on the NMFS hotline (206) 526-6667 or (800) 662-9825. No halibut fishing will be allowed on the reopening dates unless the date is announced on the NMFS hotline.

(B) The daily bag limit is the first halibut taken, per person, of 32 inches (81.3 cm) or greater in length.

(vii) In the area south of Humbug Mountain, Oregon (42°40′30″ N. lat.) and off the California coast, there is no quota. This area is managed on a season that is projected to result in a catch of less than 7,860 lb (3.6 mt).

(A) The fishing season will commence on May 1 and continue every day through September 30.

(B) The daily bag limit is the first halibut taken, per person, of 32 inches (81.3 cm) or greater in length.

(c) The Commission shall determine and announce closing dates to the public for any area in which the subquotas in this Section are estimated to have been taken.

(d) When the Commission has determined that a subquota under paragraph (4)(b) of this section is estimated to have been taken, and has announced a date on which the season will close, no person shall sport fish for halibut in that area after that date for the rest of the year, unless a reopening of that area for sport halibut fishing is scheduled in accordance with the Catch Sharing Plan for Area 2A, or announced by the Commission.

(5) Any minimum overall size limit promulgated under IPHC or NMFS regulations shall be measured in a straight line passing over the pectoral fin from the tip of the lower jaw with the mouth closed, to the extreme end of the middle of the tail.

(6) No person shall fillet, mutilate, or otherwise disfigure a halibut in any manner that prevents the determination of minimum size or the number of fish caught, possessed, or landed.

(7) The possession limit for halibut in the waters off the coast of Alaska is two daily bag limits.

(8) The possession limit for halibut in the waters off the coast of British Columbia is three halibut.

(9) The possession limit for halibut in the waters off Washington, Oregon, and California is the same as the daily bag limit.

(10) The possession limit for halibut on land in Area 2A is two daily bag limits.

(11) Any halibut brought aboard a vessel and not immediately returned to the sea with a minimum of injury will be included in the daily bag limit of the person catching the halibut.

(12) No person shall be in possession of halibut on a vessel while fishing in a closed area.

(13) No halibut caught by sport fishing shall be offered for sale, sold, traded, or bartered.

(14) No halibut caught in sport fishing shall be possessed on board a vessel when other fish or shellfish aboard the said vessel are destined for commercial use, sale, trade, or barter.

(15) The operator of a charter vessel shall be liable for any violations of these regulations committed by a passenger aboard said vessel.

25. Flexible Inseason Management Provisions in Area 2A

(1) The Regional Administrator, NMFS Northwest Region, after consultation with the Chairman of the Pacific Fishery Management Council, the Commission Executive Director, and the Fisheries Director(s) of the affected state(s), or their designees, is authorized to modify regulations during the season after making the following determinations.

(a) The action is necessary to allow allocation objectives to be met.

(b) The action will not result in exceeding the catch limit for the area.

(c) If any of the sport fishery subareas north of Cape Falcon, OR are not projected to utilize their respective quotas by September 30, NMFS may take inseason action to transfer any projected unused quota to another Washington sport subarea.

(d) If any of the sport fishery subareas south of Leadbetter Point, WA are not projected to utilize their respective quotas by their season ending dates, NMFS may take inseason action to transfer any projected unused quota to another Oregon sport subarea.

(2) Flexible inseason management provisions include, but are not limited to, the following:

(a) Modification of sport fishing periods;

(b) Modification of sport fishing bag limits;

(c) Modification of sport fishing size limits;

(d) Modification of sport fishing days per calendar week; and

(e) Modification of subarea quotas north of Cape Falcon, OR.

(3) Notice procedures.

(a) Actions taken under this section will be published in the Federal Register.

(b) Actual notice of inseason management actions will be provided by a telephone hotline administered by the Northwest Region, NMFS, at 206-526-6667 or 800-662-9825 (May through September) and by U.S. Coast Guard broadcasts. These broadcasts are announced on Channel 16 VHF-FM and 2182 kHz at frequent intervals. The announcements designate the channel or frequency over which the notice to mariners will be immediately broadcast. Since provisions of these regulations may be altered by inseason actions, sport fishers should monitor either the telephone hotline or U.S. Coast Guard broadcasts for current information for the area in which they are fishing.

(4) Effective dates.

(a) Any action issued under this section is effective on the date specified in the publication or at the time that the action is filed for public inspection with the Office of the Federal Register, whichever is later.

(b) If time allows, NMFS will invite public comment prior to the effective date of any inseason action filed with the Federal Register. If the Regional Administrator determines, for good cause, that an inseason action must be filed without affording a prior opportunity for public comment, public comments will be received for a period of 15 days after publication of the action in the Federal Register.

(c) Any inseason action issued under this section will remain in effect until the stated expiration date or until rescinded, modified, or superseded. However, no inseason action has any effect beyond the end of the calendar year in which it is issued.

(5) Availability of data. The Regional Administrator will compile, in aggregate form, all data and other information relevant to the action being taken and will make them available for public review during normal office hours at the Northwest Regional Office, NMFS, Sustainable Fisheries Division, 7600 Sand Point Way NE, Seattle, WA.

26. Fishery Election in Area 2A

(1) A vessel that fishes in Area 2A may participate in only one of the following three fisheries in Area 2A:

(a) The sport fishery under Section 24;

(b) The commercial directed fishery for halibut during the fishing period(s) established in Section 8 and/or the incidental retention of halibut during the primary sablefish fishery described at 50 CFR 660.323(a)(2); or

(c) The incidental catch fishery during the salmon troll fishery as authorized in Section 8.

(2) No person shall fish for halibut in the sport fishery in Area 2A under Section 24 from a vessel that has been used during the same calendar year for commercial halibut fishing in Area 2A or that has been issued a permit for the same calendar year for the commercial halibut fishery in Area 2A.

(3) No person shall fish for halibut in the directed halibut fishery during the fishing periods established in Section 8 and/or retain halibut incidentally taken in the primary sablefish fishery in Area 2A from a vessel that has been used during the same calendar year for the incidental catch fishery during the salmon troll fishery as authorized in Section 8.

(4) No person shall fish for halibut in the directed commercial halibut fishery and/or retain halibut incidentally taken in the primary sablefish fishery in Area 2A from a vessel that, during the same calendar year, has been used in the sport halibut fishery in Area 2A or that is licensed for the sport charter halibut fishery in Area 2A.

(5) No person shall retain halibut in the salmon troll fishery in Area 2A as authorized under Section 8 taken on a vessel that, during the same calendar year, has been used in the sport halibut fishery in Area 2A, or that is licensed for the sport charter halibut fishery in Area 2A.

(6) No person shall retain halibut in the salmon troll fishery in Area 2A as authorized under Section 8 taken on a vessel that, during the same calendar year, has been used in the directed commercial fishery during the fishing periods established in Section 8 and/or retain halibut incidentally taken in the primary sablefish fishery for Area 2A or that is licensed to participate in these commercial fisheries during the fishing periods established in Section 8 in Area 2A.

27. Area 2A Non-Treaty Commercial Fishery Closed Area

Non-treaty commercial vessels operating in the directed commercial fishery for halibut in Area 2A are required to fish outside of a closed area, known as the Rockfish Conservation Area (RCA), that extends along the coast from the U.S./Canada border south to 40°10′ N. lat. The closed area follows approximate depth contours. Coordinates for the specific boundaries that approximate the depth contours are as follows:

(1) Between the U.S./Canada border and 46°16' N. lat., the eastern boundary of the RCA extends to the shoreline.

(2) Between 46°16′ N. lat. and 40°10′ N. lat., the RCA is defined along an eastern, inshore boundary approximating 27 fm (49 m). The 27 fm depth contour used between 46°16′ N. lat. and 40°10′ N. lat. as an eastern boundary for the RCA is defined by straight lines connecting all of the following points in the order stated:

(1) 46°16.00′ N. lat., 124°12.39′ W. long.;

(2) 46°14.85′ N. lat., 124°12.39′ W. long.;

(3) 46°3.95′ N. lat., 124°3.64′ W. long.;

(4) 45°43.14′ N. lat., 124°0.17′ W. long.;

(5) 45°23.33′ N. lat., 124°1.99′ W. long.;

(6) 45°9.54′ N. lat., 124°1.65′ W. long.;

(7) 44°39.99′ N. lat., 124°8.67′ W. long.;

(8) 44°20.86′ N. lat., 124°10.31′ W. long.;

(9) 43°37.11′ N. lat., 124°14.91′ W. long.;

(10) 43°27.54′ N. lat., 124°18.98′ W. long.;

(11) 43°20.68′ N. lat., 124°25.53′ W. long.;

(12) 43°15.08′ N. lat., 124°27.17′ W. long.;

(13) 43°6.89′ N. lat., 124°29.65′ W. long.;

(14) 43°1.02′ N. lat., 124°29.70′ W. long.;

(15) 42°52.67′ N. lat., 124°36.10′ W. long.;

(16) 42°45.96′ N. lat., 124°37.95′ W. long.;

(17) 42°45.80′ N. lat., 124°35.41′ W. long.;

(18) 42°38.46′ N. lat., 124°27.49′ W. long.;

(19) 42°35.29′ N. lat., 124°26.85′ W. long.;

(20) 42°31.49′ N. lat., 124°31.40′ W. long.;

(21) 42°29.06′ N. lat., 124°32.24′ W. long.;

(22) 42°14.26′ N. lat., 124°26.27′ W. long.;

(23) 42°4.86′ N. lat., 124°21.94′ W. long.;

(24) 42°0.10′ N. lat., 124°20.99′ W. long.;

(25) 42°0.00′ N. lat., 124°21.03′ W. long.;

(26) 41°56.33′ N. lat., 124°20.34′ W. long.;

(27) 41°50.93′ N. lat., 124°23.74′ W. long.;

(28) 41°41.83′ N. lat., 124°16.99′ W. long.;

(29) 41°35.48′ N. lat., 124°16.35′ W. long.;

(30) 41°23.51′ N. lat., 124°10.48′ W. long.;

(31) 41°4.62′ N. lat., 124°14.44′ W. long.;

(32) 40°54.28′ N. lat., 124°13.90′ W. long.;

(33) 40°40.37′ N. lat., 124°26.21′ W. long.;

(34) 40°34.03′ N. lat., 124°27.36′ W. long.;

(35) 40°28.88′ N. lat., 124°32.41′ W. long.;

(36) 40°24.82′ N. lat., 124°29.56′ W. long.;

(37) 40°22.64′ N. lat., 124°24.05′ W. long.;

(38) 40°18.67′ N. lat., 124°21.90′ W. long.;

(39) 40°14.23′ N. lat., 124°23.72′ W. long.; and

(40) 40°10.00′ N. lat., 124°17.22′ W. long.;

(3) Between the U.S./Canada border and 40°10′ N. lat., the RCA is defined along a western, offshore boundary approximating 100 fm (183 m). The 100 fm depth contour used north of 40°10′ N. lat. as a western boundary for the RCA is defined by straight lines connecting all of the following points in the order stated:

(1) 48°15.00′ N. lat., 125°41.00′ W. long.;

(2) 48°14.00′ N. lat., 125°36.00′ W. long.;

(3) 48°09.50′ N. lat., 125°40.50′ W. long.;

(4) 48°08.00′ N. lat., 125°38.00′ W. long.;

(5) 48°05.00′ N. lat., 125°37.25′ W. long.;

(6) 48°02.60′ N. lat., 125°34.70′ W. long.;

(7) 47°59.00′ N. lat., 125°34.00′ W. long.;

(8) 47°57.26′ N. lat., 125°29.82′ W. long.;

(9) 47°59.87′ N. lat., 125°25.81′ W. long.;

(10) 48°01.08′ N. lat., 125°24.53′ W. long.;

(11) 48°02.08′ N. lat., 125°22.98′ W. long.;

(12) 48°02.97′ N. lat., 125°22.89′ W. long.;

(13) 48°04.47′ N. lat., 125°21.75′ W. long.;

(14) 48°06.11′ N. lat., 125°19.33′ W. long.;

(15) 48°07.95′ N. lat., 125°18.55′ W. long.;

(16) 48°09.00′ N. lat., 125°18.00′ W. long.;

(17) 48°11.31′ N. lat., 125°17.55′ W. long.;

(18) 48°14.60′ N. lat., 125°13.46′ W. long.;

(19) 48°16.67′ N. lat., 125°14.34′ W. long.;

(20) 48°18.73′ N. lat., 125°14.41′ W. long.;

(21) 48°19.98′ N. lat., 125°13.24′ W. long.;

(22) 48°22.95′ N. lat., 125°10.79′ W. long.;

(23) 48°21.61′ N. lat., 125°02.54′ W. long.;

(24) 48°23.00′ N. lat., 124°49.34′ W. long.;

(25) 48°17.00′ N. lat., 124°56.50′ W. long.;

(26) 48°06.00′ N. lat., 125°00.00′ W. long.;

(27) 48°04.62′ N. lat., 125°01.73′ W. long.;

(28) 48°04.84′ N. lat., 125°04.03′ W. long.;

(29) 48°06.41′ N. lat., 125°06.51′ W. long.;

(30) 48°06.00′ N. lat., 125°08.00′ W. long.;

(31) 48°07.28′ N. lat., 125°11.14′ W. long.;

(32) 48°03.45′ N. lat., 125°16.66′ W. long.;

(33) 47°59.50′ N. lat., 125°18.88′ W. long.;

(34) 47°58.68′ N. lat., 125°16.19′ W. long.;

(35) 47°56.62′ N. lat., 125°13.50′ W. long.;

(36) 47°53.71′ N. lat., 125°11.96′ W. long.;

(37) 47°51.70′ N. lat., 125°09.38′ W. long.;

(38) 47°49.95′ N. lat., 125°06.07′ W. long.;

(39) 47°49.00′ N. lat., 125°03.00′ W. long.;

(40) 47°46.95′ N. lat., 125°04.00′ W. long.;

(41) 47°46.58′ N. lat., 125°03.15′ W. long.;

(42) 47°44.07′ N. lat., 125°04.28′ W. long.;

(43) 47°43.32′ N. lat., 125°04.41′ W. long.;

(44) 47°40.95′ N. lat., 125°04.14′ W. long.;

(45) 47°39.58′ N. lat., 125°04.97′ W. long.;

(46) 47°36.23′ N. lat., 125°02.77′ W. long.;

(47) 47°34.28′ N. lat., 124°58.66′ W. long.;

(48) 47°32.17′ N. lat., 124°57.77′ W. long.;

(49) 47°30.27′ N. lat., 124°56.16′ W. long.;

(50) 47°30.60′ N. lat., 124°54.80′ W. long.;

(51) 47°29.26′ N. lat., 124°52.21′ W. long.;

(52) 47°28.21′ N. lat., 124°50.65′ W. long.;

(53) 47°27.38′ N. lat., 124°49.34′ W. long.;

(54) 47°25.61′ N. lat., 124°48.26′ W. long.;

(55) 47°23.54′ N. lat., 124°46.42′ W. long.;

(56) 47°20.64′ N. lat., 124°45.91′ W. long.;

(57) 47°17.99′ N. lat., 124°45.59′ W. long.;

(58) 47°18.20′ N. lat., 124°49.12′ W. long.;

(59) 47°15.01′ N. lat., 124°51.09′ W. long.;

(60) 47°12.61′ N. lat., 124°54.89′ W. long.;

(61) 47°08.22′ N. lat., 124°56.53′ W. long.;

(62) 47°08.50′ N. lat., 124°54.95′ W. long.;

(63) 47°01.92′ N. lat., 124°57.74′ W. long.;

(64) 47°01.14′ N. lat., 124°59.35′ W. long.;

(65) 46°58.48′ N. lat., 124°57.81′ W. long.;

(66) 46°56.79′ N. lat., 124°56.03′ W. long.;

(67) 46°58.01′ N. lat., 124°55.09′ W. long.;

(68) 46°55.07′ N. lat., 124°54.14′ W. long.;

(69) 46°59.60′ N. lat., 124°49.79′ W. long.;

(70) 46°58.72′ N. lat., 124°48.78′ W. long.;

(71) 46°54.45′ N. lat., 124°48.36′ W. long.;

(72) 46°53.99′ N. lat., 124°49.95′ W. long.;

(73) 46°54.38′ N. lat., 124°52.73′ W. long.;

(74) 46°52.38′ N. lat., 124°52.02′ W. long.;

(75) 46°48.93′ N. lat., 124°49.17′ W. long.;

(76) 46°41.50′ N. lat., 124°43.00′ W. long.;

(77) 46°34.50′ N. lat., 124°28.50′ W. long.;

(78) 46°29.00′ N. lat., 124°30.00′ W. long.;

(79) 46°20.00′ N. lat., 124°36.50′ W. long.;

(80) 46°18.00′ N. lat., 124°38.00′ W. long.;

(81) 46°17.52′ N. lat., 124°35.35′ W. long.;

(82) 46°17.00′ N. lat., 124°22.50′ W. long.;

(83) 46°15.02′ N. lat., 124°23.77′ W. long.;

(84) 46°12.00′ N. lat., 124°35.00′ W. long.;

(85) 46°10.50′ N. lat., 124°39.00′ W. long.;

(86) 46°8.90′ N. lat., 124°39.11′ W. long.;

(87) 46°0.97′ N. lat., 124°38.56′ W. long.;

(88) 45°57.04′ N. lat., 124°36.42′ W. long.;

(89) 45°54.29′ N. lat., 124°40.02′ W. long.;

(90) 45°47.19′ N. lat., 124°35.58′ W. long.;

(91) 45°41.75′ N. lat., 124°28.32′ W. long.;

(92) 45°34.16′ N. lat., 124°24.23′ W. long.;

(93) 45°27.10′ N. lat., 124°21.74′ W. long.;

(94) 45°17.14′ N. lat., 124°17.85′ W. long.;

(95) 44°59.51′ N. lat., 124°19.34′ W. long.;

(96) 44°49.30′ N. lat., 124°29.97′ W. long.;

(97) 44°45.64′ N. lat., 124°33.89′ W. long.;

(98) 44°33.00′ N. lat., 124°36.88′ W. long.;

(99) 44°28.20′ N. lat., 124°44.72′ W. long.;

(100) 44°13.16′ N. lat., 124°56.36′ W. long.;

(101) 43°56.34′ N. lat., 124°55.74′ W. long.;

(102) 43°56.47′ N. lat., 124°34.61′ W. long.;

(103) 43°42.73′ N. lat., 124°32.41′ W. long.;

(104) 43°30.92′ N. lat., 124°34.43′ W. long.;

(105) 43°17.44′ N. lat., 124°41.16′ W. long.;

(106) 43°7.04′ N. lat., 124°41.25′ W. long.;

(107) 43°3.45′ N. lat., 124°44.36′ W. long.;

(108) 43°3.90′ N. lat., 124°50.81′ W. long.;

(109) 42°55.70′ N. lat., 124°52.79′ W. long.;

(110) 42°54.12′ N. lat., 124°47.36′ W. long.;

(111) 42°43.99′ N. lat., 124°42.38′ W. long.;

(112) 42°38.23′ N. lat., 124°41.25′ W. long.;

(113) 42°33.02′ N. lat., 124°42.38′ W. long.;

(114) 42°31.89′ N. lat., 124°42.04′ W. long.;

(115) 42°30.08′ N. lat., 124°42.67′ W. long.;

(116) 42°28.27′ N. lat., 124°47.08′ W. long.;

(117) 42°25.22′ N. lat., 124°43.51′ W. long.;

(118) 42°19.22′ N. lat., 124°37.92′ W. long.;

(119) 42°16.28′ N. lat., 124°36.11′ W. long.;

(120) 42°5.65′ N. lat., 124°34.92′ W. long.;

(121) 42°0.00′ N. lat., 124°35.27′ W. long.;

(122) 42°00.00′ N. lat., 124°35.26′ W. long.;

(123) 41°47.04′ N. lat., 124°27.64′ W. long.;

(124) 41°32.92′ N. lat., 124°28.79′ W. long.;

(125) 41°24.17′ N. lat., 124°28.46′ W. long.;

(126) 41°10.12′ N. lat., 124°20.50′ W. long.;

(127) 40°51.41′ N. lat., 124°24.38′ W. long.;

(128) 40°43.71′ N. lat., 124°29.89′ W. long.;

(129) 40°40.14′ N. lat., 124°30.90′ W. long.;

(130) 40°37.35′ N. lat., 124°29.05′ W. long.;

(131) 40°34.76′ N. lat., 124°29.82′ W. long.;

(132) 40°36.78′ N. lat., 124°37.06′ W. long.;

(133) 40°32.44′ N. lat., 124°39.58′ W. long.;

(134) 40°24.82′ N. lat., 124°35.12′ W. long.;

(135) 40°23.30′ N. lat., 124°31.60′ W. long.;

(136) 40°23.52′ N. lat., 124°28.78′ W. long.;

(137) 40°22.43′ N. lat., 124°25.00′ W. long.;

(138) 40°21.72′ N. lat., 124°24.94′ W. long.;

(139) 40°21.87′ N. lat., 124°27.96′ W. long.;

(140) 40°21.40′ N. lat., 124°28.74′ W. long.;

(141) 40°19.68′ N. lat., 124°28.49′ W. long.;

(142) 40°17.73′ N. lat., 124°25.43′ W. long.;

(143) 40°18.37′ N. lat., 124°23.35′ W. long.;

(144) 40°15.75′ N. lat., 124°26.05′ W. long.;

(145) 40°16.75′ N. lat., 124°33.71′ W. long.;

(146) 40°16.29′ N. lat., 124°34.36′ W. long.; and

(147) 40°10.00′ N. lat., 124°21.12′ W. long.

28. Previous Regulations Superseded

These regulations shall supersede all previous regulations of the Commission, and these regulations shall be effective each succeeding year until superseded.

Classification

IPHC Regulations

Because approval by the Secretary of State of the IPHC regulations is a foreign affairs function, the notice-and-comment and delay-in-effective date requirements of the Administrative Procedure Act (APA), 5 U.S.C. 553, do not apply to this notice of the effectiveness and content of the IPHC regulations, 5 U.S.C. 553(a)(1). Because prior notice and an opportunity for public comment are not required to be provided for these portions of this rule by 5 U.S.C. 553, or any other law, the analytical requirements of the Regulatory Flexibility Act, 5 U.S.C. 601 et seq., are not applicable.

Catch Sharing Plan for Area 2A

An EA/RIR was prepared on the proposed changes to the CSP. NMFS has determined that the proposed changes to the CSP and the management measures implementing the CSP contained in these regulations will not significantly affect the quality of the human environment, and the preparation of an environmental impact statement on the final action is not required by 102(2)(C) of the National Environmental Policy Act or its implementing regulations.

At the proposed rule stage, the Chief Counsel for Regulation, Department of Commerce, certified to the Chief Counsel for Advocacy of the Small Business Administration that this action will not have a significant economic impact on a substantial number of small entities. No comments were received on this certification or on the economic impacts of the rule. No regulatory flexibility analysis has been prepared.

This action has been determined to be not significant for purposes of Executive Order 12866.

The AA finds good cause to waive the requirement to provide a 30-day delay in effectiveness (5 U.S.C. 553(d)) because it is contrary to the public interest to delay the effectiveness date of this rule for 30 days. This rule must be made effective for the opening of the 2003 Pacific halibut fishing season on March 1, 2003. Delaying the opening of the fishing season is contrary to the public interest because it would cause unnecessary economic burden on fishery participants due to loss of fishing opportunity. Because the annual quotas and management measures are ultimately determined by an international commission, the IPHC, the AA is constrained and cannot respond by publishing the final rule until after the IPHC has adopted the annual quotas and management measures for the year. NMFS's implementation of changes to the CSP could not begin until after January 24, 2003, when the IPHC adopted annual quotas and management measures for 2003. There was not enough time between when the IPHC adopted the annual quotas and management measures for 2003 and the scheduled March 1, 2003, start of the fishing season to publish the regulations in the Federal Register with enough time for a 30-day delay in effectiveness. In addition, good cause exists to waive the 30-day delay in effectiveness for the minor technical amendment to 50 CFR 300.63 pursuant to 5 U.S.C. 553(d)(3) because this amendment only clarifies the regulatory language and does not include a substantive change to the regulations.

List of Subjects in 50 CFR part 300

Fisheries, Fishing, Reporting and recordkeeping requirements, Treaties.

Authority: 16 U.S.C. 773-773k.

Dated: February 27, 2003
William T. Hogarth,
Assistant Administrator for Fisheries, National Marine Fisheries Service.

For the reasons set out in the preamble, 50 CFR part 300 is amended as follows:

PART 300—INTERNATIONAL FISHERIES REGULATIONS, SUBPART E—PACIFIC HALIBUT FISHERIES

1. The authority citation for 50 CFR part 300, subpart E continues to read as follows:

Authority: 16 U.S.C. 773-773k.

2. Section 300.63, paragraph (a)(3)(ii) is revised to read as follows:

§ 300.63 Catch sharing plans, local area management plans, and domestic management measures.

* * * * *

(a) * * *

(3) * * *

(ii) It is unlawful for any person to possess or land halibut south of 46°53′18″ N. lat. that were taken and retained as incidental catch authorized by this section in the directed longline sablefish fishery.

* * * * *

[FR Doc. 03-5171 Filed 3-3-03; 3:18 pm]

BILLING CODE 3510-22-P